DEPARTMENT OF COMMERCE

National Oceanic and Atmospheric Administration

RIN 0648-XG172

South Atlantic Fishery Management Council; Public Meetings

AGENCY: National Marine Fisheries Service (NMFS), National Oceanic and Atmospheric Administration (NOAA), Commerce.

ACTION: Notice of a public meeting webinar.

SUMMARY: The South Atlantic Fishery Management Council (Council) will hold a public meeting of its Coral Advisory Panel.

DATES: The meeting will be held via webinar on May 9, 2018, from 1 p.m. until 5 p.m.

ADDRESSES:

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Agenda items for the Coral Advisory Panel include the following: An update on fishery plan amendments currently under review and those recently approved by the Council; an overview of Joint Coral Amendment 10, Golden Crab Amendment 10, and Shrimp Amendment 11 addressing allowable fishing areas, Vessel Monitoring Systems (VMS) for the golden crab fishery and transit provisions for shrimp trawlers; updates on coral disease in Florida and deepsea coral research; discussion of the Southeast Florida Coral Conservation Area; and a discussion of regulatory reform. Advisory panel members will provide recommendations as appropriate. They will also elect a new chair and vice-chair.

Special Accommodations

The meeting is physically accessible to people with disabilities. Requests for auxiliary aids should be directed to the Council office (see ADDRESSES) 3 days prior to the public hearings.

Note: The times and sequence specified in this agenda are subject to change.

Authority: 16 U.S.C. 1801 et seq.

Dated: April 17, 2018.
Tracey L. Thompson,
Acting Deputy Director, Office of Sustainable Fisheries, National Marine Fisheries Service.

[FR Doc. 2018-08341 Filed 4-19-18; 8:45 am]

BILLING CODE 3510-22-P